DEPARTMENT OF TRANSPORTATION

Federal Transit Administration

FTA Fiscal Year 2006 Apportionments and Allocations Changes and Corrections; Announcement of States Selected for Participation in Section 5310 Pilot Program

AGENCY: Federal Transit Administration (FTA), DOT.

ACTION: Notice.

SUMMARY: This notice revises program apportionment or allocation amounts published in the December 20, 2005, FTA notice entitled “FTA Fiscal Year 2006 Apportionments and Allocations.” The revisions are required because Public Law 109-148, the Department of Defense, Emergency Supplemental Appropriations to Address Hurricanes in the Gulf of Mexico, and Pandemic Influenza Act, 2006, mandates an across-the-board rescission of one percent of every program, project, and activity in fiscal year 2006. In addition, this notice identifies other changes or corrections to the December 20, 2005, notice. The notice also identifies the States selected for participation in a Section 5310 Pilot Program.

FOR FURTHER INFORMATION CONTACT: The appropriate FTA Regional Administrator or Mary Martha Churchman, Director, Office of Transit Programs, (202) 366-2053.

I. Funds Available for Obligation

The “FTA Fiscal Year 2006 Apportionments and Allocations Notice published in the Federal Register on December 20, 2005, was based on the full year funding level for each program or project, and amounts available for obligation by grantees based on the 2006 DOT Appropriations Act (Pub. L. 109-115). On December 30, 2005, the President signed into law the “Department of Defense, Emergency Supplemental Appropriations to Address Hurricanes in the Gulf of Mexico, and Pandemic Influenza Act, 2006, Public Law 109-148; hereafter called the 2006 DoD Emergency Supplemental Appropriations Act, which affects the FTA FY 2006 program funding levels published on December 20, 2005. Title III, Chapter 8, Section 3081 of the 2006 DoD Emergency Supplemental Appropriations Act requires a one percent across-the-board rescission of any program, project, or activity in FY 2006.

FTA has applied the one percent rescission to all FTA programs and projects. Accordingly, all apportionment and allocation tables contained in the December 20, 2005, notice have been revised. The revised tables are included in this document and show the amounts currently available for obligation by grantees, after the one percent reduction. The revised tables supersede those contained in the December 20, 2005, notice.

This document is posted on the FTA Web site at http://www.fta.dot.gov/25_ENG_HTML.htm. It is also available by calling the regional office.

II. FTA Changes and Corrections

Several significant changes and corrections were made to the apportionment or allocation information in addition to the adjustment for the one percent rescission. The following changes and corrections are brought to your attention.

1. The New Freedom apportionments to the States for small urbanized areas and rural areas, in Table 17, were revised to correct an error in the formula apportionment methodology.

2. The revised Job Access and Reverse Commute apportionments to the States, in Table 16, correct an error in which the amounts for Maine and Massachusetts were transposed.

3. The States identified for two Bus and Bus Facility projects were incorrectly identified as Minnesota and Texas but have been changed to show the correct State, which is Michigan. (See Table 11)

4. The revised New Starts allocations in Table 12 reflect a technical correction in the 2006 DoD Emergency Supplemental Appropriations Act to increase the amount appropriated for the Dulles Corridor Rapid Transit project. The revised allocations reflect a small increase in the amount of the project management oversight take-down applied to each project.

5. Changes were made to Table 19 to include three additional extended earmarked projects for the Bus and Bus Facility and New Starts programs.

III. Announcement of States Selected for Participation in Section 5310 Pilot Program

Section 3012(b) of the Safe, Accountable, Flexible, and Efficient Transportation Equity Act—A Legacy for Users (SAFETEA-LU) authorizes a pilot program allowing up to seven States to use for operating costs not more than 33 percent of the funds apportioned to them annually under Section 5310 in FY 2006-2009. Four of the seven States are named in SAFETEA-LU: Alaska, Minnesota, Oregon, and Wisconsin. On November 7, 2005, FTA published a notice inviting proposals from States interested in participating in the pilot program. From the proposals received, FTA has selected three other States for participation in the pilot: Louisiana, North Carolina and South Carolina.

David B. Horner,
Chief Counsel.

BILLING CODE 4910-57-P

[FR Doc. 06-961 Filed 2-2-06; 8:45 am]

BILLING CODE 4910-57-C